STATE JUSTICE INSTITUTE

SJI Board of Directors Meeting, Notice

AGENCY: State Justice Institute

ACTION: Notice of meeting.

SUMMARY: The SJI Board of Directors will be meeting on Monday, August 29, 2022 at 1:00 p.m. CT. The purpose of this meeting is to consider grant applications for the 4th quarter of FY 2022, and other business.

ADDRESSES: Administrative Office of the Illinois Courts, 222 N. LaSalle Street, Chicago, IL, 60601.

FOR FURTHER INFORMATION CONTACT: Jonathan Mattiello, Executive Director, State Justice Institute, 12700 Fair Lakes Circle, Suite 340, Fairfax, VA 22033, 703-660-4979, contact@sji.gov.

Authority: 42 U.S.C. 10702(f).

Jonathan D. Mattiello,
Executive Director.

[FR Doc. 2022-16526 Filed 8-1-22; 8:45 am]

BILLING CODE 6820-SC-P